SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 29, 2007.

ADDRESSES: Send all comments regarding whether this information collection is necessary for the proper performance of the function of the agency, whether the burden estimates are accurate, and if there are ways to minimize the estimated burden and enhance the quality of the collection, to Gail Hepler, Chief 7a Loan Policy Branch, Office of Financial Assistance, Small Business Administration, 409 3rd Street, SW., Suite 8300, Washington, DC 20416.

FOR FURTHER INFORMATION CONTACT: Gail Hepler, Chief 7a Loan Policy Branch, Office of Financial Assistance, 202-205-7530, gail.hepler@sba.gov; Curtis B. Rich, Management Analyst, 202-205-7030, curtis.rich@sba.gov.

SUPPLEMENTARY INFORMATION: The SBA has continued to hear from many lenders, particularly rural/small lenders, that despite recent efforts to streamline its loan processes through such initiatives as SBAExpress, the Agency is not meeting the needs of these lenders for small SBA guaranteed loans. This is supported by the limited number of SBA loans produced by smaller lenders. As a result, SBA is moving forward to redesign its standard 7(a) loan application form and re-engineer its standard 7(a) loan process for loans of $350,000 or less, which will be processed through a centralized and highly automated and streamlined loan facility. The proposed information collection thus represents the first phase of the redesign of an existing SBA loan form (SBA Form 4 and Form 4-I), initially for loans of $350,000, with the redesign intended to reduce the time and paperwork of lenders and the public to prepare an SBA loan application. This redesign of the SBA loan application process for loans of $350,000 or less will be the first phase of what ultimately will become a tiered loan application process that will require less information for smaller loans but appropriately more information from a borrower or lender as the size and/or complexity of a loan increases.

Title: “Application for Community Lender Initiative and Instructions Community Lender Initiative Eligibility Questionnaire.”

Description of Respondents: SBA Lenders and SBA loan applicants.

Form No.'s: N/A.

Annual Responses: 4,000.

Annual Burden: 24,000.

Jacqueline White,
Chief, Administrative Information Branch.

[FR Doc. E7-16939 Filed 8-27-07; 8:45 am]

BILLING CODE 8025-01-P